DEPARTMENT OF COMMERCE

International Trade Administration

[A-570-803]

Notice of Decision of the Court of International Trade: Heavy Forged Hand Tools From the People's Republic of China

AGENCY: Import Administration, International Trade Administration, Department of Commerce.

ACTION: Notice of decision of the Court of International Trade.

SUMMARY: On July 28, 2003, the United States Court of International Trade (CIT) affirmed the Department of Commerce's results of redetermination on remand of the final results of the seventh administrative review of the antidumping duty orders on heavy forged hand tools from the People's Republic of China. See Fujian Machinery and Equipment Import & Export Corporation, et al. v. United States, Slip Op. 03-92 (CIT July 28, 2003) (Fujian II). Consistent with the decision of the United States Court of Appeals for the Federal Circuit (Federal Circuit) in Timken Co. v. United States, 893 F.2d 337 (Fed. Cir. 1990) (Timken), the Department is notifying the public that Fujian II and the CIT's earlier opinion in this case, discussed below, were “not in harmony” with the Department's original results.

EFFECTIVE DATE: August 6, 2003.

FOR FURTHER INFORMATION CONTACT: Thomas Martin AD/CVD Enforcement, Office 4, Group II, Import Administration, International Trade Administration, U.S. Department of Commerce, 14th Street and Constitution Ave., NW., Washington, DC 20230; telephone: (202) 482-3936.

SUPPLEMENTARY INFORMATION:

Background

On August 11, 1999, the Department of Commerce (the Department) published a notice of the final results of the seventh administrative review of the antidumping duty order on heavy forged hand tools from the People's Republic of China. See Heavy Forged Hand Tools, Finished or Unfinished, With or Without Handles, From the People's Republic of China; Final Results and Partial Recission of Antidumping Duty Administrative Reviews, 64 FR 43659 (August 11, 1999) (Final Results). Subsequent to the Department's Final Results, the respondent filed a lawsuit with the CIT challenging these results. Thereafter, the CIT issued an Order and Opinion dated July 17, 2000, in Fujian Machinery and Equipment Import & Export Corporation, et al. v. United States, 178 F. Supp. 2d 1305 (Ct. Int'l Trade 2001) (Fujian I), remanding several issues to the Department. Pursuant to Fujian I, the Department filed its remand results on February 20, 2002. The CIT reviewed and affirmed the Department's final results of redetermination in Fujian Machinery and Equipment Import & Export Corporation, et al. v. United States, Slip Op. 03-92 (CIT July 28, 2003) (Fujian II).

Timken Notice

In its decision in Timken, the Federal Circuit held that, pursuant to 19 U.S.C. 1516a(e), the Department must publish notice of a decision of the CIT which is “not in harmony” with the Department's results. The CIT's decision in Fujian II was not in harmony with the Department's final antidumping duty results of review. Therefore, publication of this notice fulfills the obligation imposed upon the Department by the decision in Timken. In addition, this notice will serve to continue the suspension of liquidation. If this decision is not appealed, or if appealed, if it is upheld, the Department will publish amended final antidumping duty results.

Dated: August 1, 2003.
Joseph A. Spetrini,
Acting Assistant Secretary for Grant Aldonas, Under Secretary.

[FR Doc. 03-20047 Filed 8-5-03; 8:45 am]

BILLING CODE 3510-DS-P